DEPARTMENT OF TRANSPORTATION

Federal Aviation Administration

14 CFR Part 71

[Docket No. FAA-2025-0295; Airspace Docket No. 24-AEA-12]

RIN 2120-AA66

Amendment of United States Area Navigation (RNAV) Routes Q-64, T-414, and T-705, and Establishment of United States RNAV Routes T-461 and T-463; Eastern United States

AGENCY: Federal Aviation Administration (FAA), DOT.

ACTION: Final rule.

SUMMARY: This action amends United States Area Navigation (RNAV) Routes Q-64, T-414, and T-705, and establishes RNAV Routes T-461 and T-463 in the eastern United States. This action supports FAA Next Generation Air Transportation System (NextGen) efforts to provide a modern RNAV route structure to improve the safety and efficiency of the National Airspace System (NAS).

DATES: Effective date 0901 UTC, November 27, 2025. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it amends the route structure to maintain the efficient flow of air traffic within the NAS.

History

The FAA published a NPRM for Docket No. FAA-2025-0295 in the Federal Register (90 FR 10804; February 27, 2025), proposing to amend RNAV Routes Q-64 and T-414, and establish RNAV Routes T-461 and T-463 in the eastern United States. Interested parties were invited to participate in this rulemaking effort by submitting written comments on the proposal to the FAA. One comment was received in support of the proposal.

Subsequently, the FAA published a supplemental notice of proposed rulemaking (SNPRM) for Docket No. FAA-2025-0295 in the Federal Register (90 FR 21876; May 22, 2025), proposing to amend RNAV Route T-705, and proposing further amendments to RNAV Route T-461 in the eastern United States. Interested parties were invited to participate in this rulemaking effort by submitting written comments on the proposal to the FAA. One comment was received. The comment points out a typographical error in the SNPRM where proposed new RNAV route T-461 was erroneously identified as RNAV route T-46 without the terminal digit. That error has been corrected in this final rule.

Differences From the NPRM

The table header for the route description of RNAV Route Q-64 in the initial NPRM listed the route as being between “CATLN, AL to SAWED, VA [Amended]” in error. The NPRM proposed to extend RNAV Route Q-64 to the north between the SAWED, waypoint (WP) and the KALDA, VA, WP to expand the connectivity of the route structure as the KALDA WP connects to multiple RNAV routes. The table header should have read “CATLN, AL to KALDA, VA [Amended]”. The SNPRM did not reproduce the same chart so the error was not present in that document and was limited to only the initial NRPM. This final rule corrects the error. This change is ministerial in nature and does not alter the airspace boundaries or operating requirements. The FAA has determined that good cause exists for not recirculating the NPRM for public notice and comment.

Incorporation by Reference

RNAV routes are published in paragraphs 2006 and 6011 of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J, which lists Class A, B, C, D, and E airspace areas, air traffic service routes, and reporting points, is publicly available as listed in the ADDRESSES section of this document.

The Rule

This action amends 14 CFR part 71 by modifying RNAV Routes Q-64, T-414, and T-705, and establishing RNAV Routes T-461 and T-463 in the eastern United States. This action supports continued FAA NextGen efforts to provide a modern RNAV route structure that improves the efficiency of the NAS. The regulatory amendments are described below.

Q-64: Prior to this final rule, Q-64 extended between the CATLN, AL, WP and the SAWED, VA, WP. The FAA extends the route to the north between the SAWED, WP and the KALDA, VA, WP to expand the connectivity of the route structure as the KALDA WP connects to multiple RNAV routes. Additionally, the FAA removes the FIGEY, GA, WP; HRTWL, SC, WP; IDDAA, NC, WP; DADDS, NC, WP; and MARCL, NC, WP from the route description as they form a turn of less than one degree. As amended, the airway extends between the CATLN WP and the KALDA WP.

T-414: Prior to this final rule, T-414 extended between the LOGEN, GA, WP and the BOJAR, VA, Fix. The FAA removes the airway segment between the AYARA, VA, WP and the BOJAR, VA, Fix and replaces it with the airway segments between the AYARA WP and the Gordonsville, VA (GVE), Very High Frequency Omnidirectional Range/Tactical Air Navigation (VORTAC) to provide connectivity for RNAV-equipped aircraft between the Lynchburg, VA and the Charlottesville, VA areas. As amended, the airway extends between the LOGEN WP and the Gordonsville VORTAC.

T-461: T-461 is a new RNAV route that extends between the Deer Park, NY (DPK), VOR/Distance Measuring Equipment (VOR/DME) and the Albany, NY (ALB), VORTAC. The route overlays VOR Federal Airway V-44 between the Deer Park VOR/DME and the Albany VORTAC. The new route provides RNAV route connectivity between the New York, NY and the Albany, NY areas.

T-463: T-463 is a new RNAV route that extends between the VADDR, NY, WP and the Burlington, VT (BTV), VOR/DME. The route overlays VOR Federal Airway V-487 between the La Guardia, NY (LGA), VOR/DME and the Burlington VOR/DME. The new route provides additional RNAV route connectivity between the New York, NY and the Burlington, VT areas.

T-705: Prior to this final rule, T-705 extended between the Nantucket, MA (ACK), VOR/DME and the MUTNA, NY, WP. The FAA removes the Bridgeport, CT (BDR), VOR/DME and replaces it with the EEGOR, CT, WP to provide connectivity to RNAV Routes T-315 and T-461 in the Bridgeport, CT area. As amended, the airway continues to extend between the Nantucket VOR/DME and the MUTNA WP.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of amending RNAV Routes Q-64, T-414, and T-705, and establishing RNAV Routes T-461 and T-463 qualifies for categorical exclusion under the National Environmental Policy Act (42 U.S.C. 4321, et seq.), and in accordance with FAA Order 1050.1G, FAA National Environmental Policy Act Implementing Procedures, paragraph B-2.5(a), which categorically excludes from further environmental impact review rulemaking actions that designate or modify classes of airspace areas, airways, routes, and reporting points (see 14 CFR part 71, Designation of Class A, B, C, D, and E Airspace Areas; Air Traffic Service Routes; and Reporting Points); and paragraph B-2.5(b), which categorically excludes from further environmental impact review “Actions regarding establishment of jet routes and Federal airways (see 14 CFR 71.15, Designation of jet routes and VOR Federal airways). . .”. As such, this action is not expected to result in any potentially significant environmental impacts. In accordance with the FAA's NEPA implementation policy and procedures regarding extraordinary circumstances, the FAA has reviewed this action for factors and circumstances in which a normally categorically excluded action may have a significant environmental impact requiring further analysis. The FAA has determined that no extraordinary circumstances exist that warrant preparation of an environmental assessment or environmental impact statement.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 2006 United States Area Navigation Routes.

* * * * *

Q-64 CATLN, AL to KALDA, VA [Amended]
CATLN, AL | WP | (Lat. 31°18′26.03″ N, long. 087°34′47.75″ W)
DARRL, SC | WP | (Lat. 34°47′49.47″ N, long. 081°03′21.62″ W)
Tar River, NC (TYI) | VORTAC | (Lat. 35°58′36.21″ N, long. 077°42′13.43″ W)
GUILD, NC | WP | (Lat. 36°18′49.56″ N, long. 077°14′59.96″ W)
SAWED, VA | WP | (Lat. 37°32′00.73″ N, long. 075°51′29.10″ W)
KALDA, VA | WP | (Lat. 37°50′31.06″ N, long. 075°37′35.34″ W)

* * * * *

Paragraph 6011 United States Area Navigation Routes.

* * * * *

T-414 LOGEN, GA to Gordonsville, VA (GVE) [Amended]
LOGEN, GA | WP | (Lat. 33°59′16.98″ N, long. 084°03′24.43″ W)
MILBY, SC | WP | (Lat. 34°41′02.23″ N, long. 083°18′42.53″ W)
STYLZ, NC | WP | (Lat. 35°24′22.83″ N, long. 082°16′07.01″ W)
BONZE, NC | WP | (Lat. 35°52′09.16″ N, long. 081°14′24.10″ W)
AYARA, VA | WP | (Lat. 37°03′40.36″ N, long. 079°31′24.92″ W)
AIROW, VA | WP | (Lat. 37°14′48.69″ N, long. 079°13′47.48″ W)
SWARM, VA | FIX | (Lat. 37°28′34.84″ N, long. 078°55′25.24″ W)
Gordonsville, VA (GVE) | VORTAC | (Lat. 38°00′48.96″ N, long. 078°09′10.90″ W)

* * * * *

T-461 Deer Park, NY (DPK) to Albany, NY (ALB) [New]
Deer Park, NY (DPK) | VOR/DME | (Lat. 40°47′30.36″ N, long. 073°18′13.24″ W)
BELTT, NY | FIX | (Lat. 41°03′48.61″ N, long. 072°59′13.52″ W)
EEGOR, CT | WP | (Lat. 41°09′38.94″ N, long. 073°07′27.66″ W)
LOVES, CT | FIX | (Lat. 41°32′19.64″ N, long. 073°29′17.14″ W)
PAWLN, NY | WP | (Lat. 41°46′11.51″ N, long. 073°36′02.64″ W)
ATHOS, NY | FIX | (Lat. 42°14′49.49″ N, long. 073°48′43.56″ W)
Albany, NY (ALB) | VORTAC | (Lat. 42°44′50.21″ N, long. 073°48′11.46″ W)

* * * * *

T-463 VADDR, NY to Burlington, VT (BTV) [New]
VADDR, NY | WP | (Lat. 40°47′00.20″ N, long. 073°52′07.00″ W)
EEGOR, CT | WP | (Lat. 41°09′38.94″ N, long. 073°07′27.66″ W)
BOWAN, NY | FIX | (Lat. 42°06′23.14″ N, long. 073°31′28.95″ W)
HIDAL, NY | FIX | (Lat. 42°15′50.18″ N, long. 073°29′53.60″ W)
Cambridge, NY (CAM) | VOR/DME | (Lat. 42°59′39.44″ N, long. 073°20′38.47″ W)
ENSON, VT | FIX | (Lat. 43°41′28.40″ N, long. 073°18′37.65″ W)
Burlington, VT (BTV) | VOR/DME | (Lat. 44°23′49.58″ N, long. 073°10′57.49″ W)

* * * * *

T-705 Nantucket, MA (ACK) to MUTNA, NY [Amended]
Nantucket, MA (ACK) | VOR/DME | (Lat. 41°16′54.79″ N, long. 070°01′36.16″ W)
LIBBE, NY | FIX | (Lat. 41°00′15.86″ N, long. 071°21′20.34″ W)
ORCHA, NY | WP | (Lat. 40°54′55.46″ N, long. 072°18′43.64″ W)
Calverton, NY (CCC) | VOR/DME | (Lat. 40°55′46.63″ N, long. 072°47′55.89″ W)
EEGOR, CT | WP | (Lat. 41°09′38.94″ N, long. 073°07′27.66″ W)
LOVES, CT | FIX | (Lat. 41°32′19.64″ N, long. 073°29′17.14″ W)
PAWLN, NY | WP | (Lat. 41°46′11.51″ N, long. 073°36′02.64″ W)
CYPER, NY | FIX | (Lat. 42°06′32.37″ N, long. 074°16′25.52″ W)
CODDI, NY | FIX | (Lat. 42°22′52.15″ N, long. 075°00′21.84″ W)
LAMMS, NY | WP | (Lat. 43°01′35.30″ N, long. 075°09′51.50″ W)
SRNAC, NY | WP | (Lat. 44°23′05.00″ N, long. 074°12′16.11″ W)
RIGID, NY | WP | (Lat. 44°35′19.53″ N, long. 073°44′34.07″ W)
PBERG, NY | WP | (Lat. 44°42′06.25″ N, long. 073°31′22.18″ W)
MUTNA, NY | WP | (Lat. 45°00′20.84″ N, long. 073°33′27.65″ W)

* * * * *

Issued in Washington, DC, on September 5, 2025.
Brian Eric Konie,
Acting Manager, Rules and Regulations Group.

[FR Doc. 2025-17360 Filed 9-9-25; 8:45 am]

BILLING CODE 4910-13-P